ENVIRONMENTAL PROTECTION AGENCY

[ER-FRL-9035-4]

Environmental Impact Statements; Notice of Availability

Responsible Agency: Office of Federal Activities, General Information (202) 564-7146 or http://www2.epa.gov/nepa/.

Weekly receipt of Environmental Impact Statements (EIS)

Filed 09/18/2017 Through 09/22/2017

Pursuant to 40 CFR 1506.9

Notice

Section 309(a) of the Clean Air Act requires that EPA make public its comments on EISs issued by other Federal agencies. EPA's comment letters on EISs are available at: http://www.epa.gov/compliance/nepa/eisdata.html.

EIS No. 20170184, Final, FRA, GA, Atlanta-Chattanooga High Speed Ground Transportation Project, Review Period Ends: 10/29/2017, Contact: John Winkle 202-493-6067

EIS No. 20170185, Final, DOC, AL, Nationwide Public Safety Broadband Network for the Southern United States, Review Period Ends: 10/29/2017, Contact: Amanda Pereira 571-665-6042

EIS No. 20170186, Draft, FHWA, UT, I-15, Payson Main Street Interchange, Comment Period Ends: 11/13/2017, Contact: Justin Schellenberg 801-965-4000

EIS No. 20170187, Draft, USACE, CA, Aliso Creek Mainstem Ecosystem Restoration Study, Comment Period Ends: 11/13/2017, Contact: Deborah Lamb (213) 452-3798

EIS No. 20170188, Draft, USFS, CO, Rio Grande Forest Plan Revision, Comment Period Ends: 12/28/2017, Contact: Erin Minks 719-852-6215

EIS No. 20170189, Final Supplement, BOP, KY, Proposed U.S. Penitentiary and Federal Prison Camp, Letcher County, KY, Review Period Ends: 10/29/2017, Contact: Issac Gaston 202-514-6470

Amended Notices

EIS No. 20170135, Draft, NPS, WA, Olympic National Park Draft Mountain Goat Management Plan, Comment Period Ends: 09/26/2017, Contact: Christina Miller 360-565-3004

Revision to FR Notice Published 07/28/2017; Extending Comment Period from 09/26/2017 to 10/10/2017.

Dated: September 26, 2017.
Kelly Knight,
Director, NEPA Compliance Division, Office of Federal Activities.

[FR Doc. 2017-20938 Filed 9-28-17; 8:45 am]

BILLING CODE 6560-50-P